PEACE CORPS

Agency Information Collection Under Review by the Office of Management and Budget

AGENCY: Peace Corps.

ACTION: Notice of information collection for review by OMB and public comment.

SUMMARY: In accordance with the Paperwork Reduction Act, this notice invites the public to comment on the collection of information in the Peace Corps Crime Incident Reporting Forms, and gives notice of the Peace Corps' intention to request Office of Management and Budget (OMB) approval of the information collection. The Peace Corps Crime Incident Reporting Forms (PCOIG-958, PCSS-953-2, PCMS-954-1, PCSS-953-A, PCSS-953, PCMS-954 and the Peace Corps Crime Incident Tracking Form (PCSS-953-1) collect information related to crimes perpetrated against Peace Corps Volunteers living and working in 72 countries in the developing world. This information is critical for crime prevention programs to keep Peace Corps Volunteers safe, and is used to assist in the investigation of crimes against Peace Corps Volunteers and for the related medical treatment of Peace Corps Volunteers who have been victims of crimes. There is no statutory or regulatory requirement for this information. The information will be initially collected by the Peace Corps Country Director, the Peace Corps Medical Officer, or other staff person designated by the Country Director, and will be electronically submitted to Peace Corps' Office of Safety and Security, Office of the Inspector General, and the Office of Medical Services.

The Peace Corps uses this information for programmatic reasons, to evaluate the circumstance of crimes committed against Peace Corps Volunteers, and to make necessary changes in policy and/or programs. The information is submitted, as appropriate, to three Peace Corps offices. Information is submitted to the Office of Safety and Security that is used to evaluate the circumstances of crimes committed against Peace Corps Volunteers and to recommend changes in training, site selection, and/or policy, as related to the safety of the Volunteer. Information is submitted to the Office of Inspector General that is used for the investigation, prosecution, and tracking of perpetrators who commit crimes against Peace Corps Volunteers. Information is submitted to the Office of Medical Services that is used for trend analysis and the education of medical treatment personnel on health-related issues that affect Volunteers who are the victims of crimes.

The forms are designed to be submitted electronically in a manner that secures the information and provides specific information only to the office that requires it. These forms are a consolidation of two existing collections with a new collection, and are designed to reduce the reporting burden on staff. These proposed forms do not require input from U.S. citizens who are not employees of the Peace Corps.

DATES: Submit comments on or before July 15, 2005.

ADDRESSES: Comments should be addressed to Dr. Morgan L. Walls, Ph.D., Research Psychologist, Office of Safety and Security, Peace Corps, 1111 20th Street, NW., Room 5404, Washington, DC 20526. Dr. Walls can be contacted by telephone at 202-692-2556 or 800-424-8580 ext 2556 or e-mail at mwalls@peacecorps.gov E-mail comments must be made in text and not in attachments.

FOR FURTHER INFORMATION CONTACT: Dr. Morgan Walls, Office of Safety and Security, Peace Corps, 1111 20th Street, NW., Room 5404, Washington, DC 20526.

SUPPLEMENTARY INFORMATION: Title: Peace Corps Crime Incident Reporting/Tracking Form.

OMB Control Number: To be assigned.

Type of Request: New collection of information.

Abstract: The purpose of these forms is to monitor and enhance the safety and security of Peace Corps Volunteers. The information will be collected by the Peace Corps Country Director, the Peace Corps Medical Officer or a staff person designated by the Country Director, and will be submitted electronically to three Peace Corps offices. Information is submitted to the Office of Safety and Security that is used to evaluate the circumstances of crimes committed against Peace Corps Volunteers and to recommend changes in training, site selection, and/or policy, as related to the safety of the Volunteers. Information is submitted to the Office of Inspector General that is used for the investigation, prosecution, and tracking of perpetrators who commit crimes against Peace Corps Volunteers. Information is submitted to the Office of Medical Services that is used for trend analysis and education of medical treatment personnel on health-related issues that affect Volunteers who are the victims of crime.

The forms are designed to be submitted electronically and in a manner that provides particular information to specific offices only. These forms are a consolidation of two existing collections with a new collection, and are designed to reduce the reporting burden on Peace Corps staff.

Affected Public: None.

Dated: May 4, 2005.
Gilbert Smith,
Associate Director for Management.

[FR Doc. 05-9641 Filed 5-10-05; 3:56 pm]

BILLING CODE 6051-01-M